ELECTION ASSISTANCE COMMISSION

Agency Information Collection Activities: Proposed Collection, Comment Request; Nondiscrimination on the Basis of Age in Programs or Activities Receiving Federal Financial Assistance From the U.S. Election Assistance Commission; Nondiscrimination on the Basis of Race, Color, or National Origin in Programs or Activities Receiving Federal Financial Assistance From the U.S. Election Assistance Commission

AGENCY: U.S. Election Assistance Commission (EAC).

ACTION: Notice and request for comments.

SUMMARY: The EAC, as part of its continuing effort to reduce paperwork and respondent burden in accordance with the Paperwork Reduction Act of 1995, invites the general public and other Federal agencies to take this opportunity to comment on proposed information collections; and recordkeeping requirements. Comments are invited on: (a) Whether the proposed collections of information and/or recordkeeping requirements are necessary for the proper performance of the agency's functions, including whether the information has practical utility; (b) the accuracy of the agency's estimate of the burden of the proposed information collections and/or recordkeeping requirements, including the validity of the methodology and assumptions used; (c) ways to enhance the quality, utility, and clarity of the information to be collected or records to be kept; and (d) ways to minimize the burden of the information collections and/or recordkeeping requirements on respondents. Comments submitted in response to this notice will be summarized and/or included in the request for OMB approval.

DATES: You must submit comments on or before 5 PM Eastern Standard Time on February 27, 2009.

ADDRESSES: You may submit comments on the proposed information collections and/or recordkeeping requirements by any of the following methods. Please submit your comments via only one of the methods described.

• E-mail: Send comments to havainfo@eac.gov with “Comments for [Title of Regulation]” in the subject line.

• Fax: Send to “EAC Regulations” at (202) 566-3128. Comments sent by fax must be limited to 6 pages.

• Mail: Send to “EAC Regulations” at U.S. Election Assistance Commission, 1225 New York Avenue, Suite 1100, Washington, DC 20005. Comments sent by mail must be unbound, be on paper no larger than 8.5” by 11”; and be submitted in duplicate. Mailed comments will not be accepted in electronic form (floppy disk, CD, etc.).

• Hand Delivery/Courier: Deliver to Suite 1100, 1225 New York Avenue, Washington, DC 20005 between 9 a.m. and 5 p.m., Monday through Friday, except federal holidays. Comments submitted by hand delivery must be unbound, be on paper no larger than 8.5” by 11”; and be submitted in duplicate. Comments sent by courier or hand delivery will not be accepted in electronic form (floppy disk, CD, etc.).

Instructions: All submissions must include the agency name and regulation title (i.e. “Nondiscrimination on the Basis of Race, Color, or National Origin”) for this information collection/recordkeeping requirement. Please also identify comments on regulatory text by subpart and section. Note that all comments received will be publicly posted, including any personal information provided. The EAC will post comments without change unless the comment contains profanity or material that is prohibited from disclosure by law.

FOR FURTHER INFORMATION CONTACT: Tamar Nedzar, Attorney, U.S. Election Assistance Commission, 1225 New York Avenue NW., Suite 1100, Washington, DC 20005. Telephone (202) 566-3100.

SUPPLEMENTARY INFORMATION: Title: Nondiscrimination on the Basis of Race, Color, or National Origin in Programs or Activities Receiving Federal Financial Assistance from the U.S. Election Assistance Commission:

OMB Number: Pending.

Type of Review: Regular submission.

Summary of Information Collections and Recordkeeping Requirements: (Full text of regulation at http://www.eac.gov; and available upon written request).

11 CFR 9421.5—Assurances required. Section 9421.5(a)(1) requires that applicants (individuals and facilities) for EAC's Federal financial assistance must provide a written assurance that they will comply with the requirements of Title VI of the Civil Rights Act of 1964. This assurance must be signed by the applicant and § 9421.5(a)(2) requires the assurance to be submitted to the Commission upon the award of Federal financial assistance. Similarly, § 9421.5(c) requires every application by a State or State agency to contain or be accompanied by a statement that the program will be conducted in compliance with all requirements of 11 CFR part 9421.

11 CFR 9421.5(a)(2)—Written notice to subrecipients. This section requires that the recipient provide each of its subrecipients with written notice of the subrecipient's obligations under this part whenever a recipient passes Federal financial assistance received from EAC to subrecipients.

11 CFR 9421.5(b)—Self-evaluation. This section provides that EAC may require a recipient employing 15 or more employees to complete a written self-evaluation of any race, color, or national origin distinction imposed in its program or activity receiving Federal financial assistance from EAC so that EAC may assess the recipient's compliance with the Act. This self-evaluation will be completed in a manner specified by EAC and will be made available on request to the Commission and the public. The purpose of the self-assessment is to indicate to the recipient any violation of the Act or of part 9421, and if a violation is identified the recipient is required to take corrective action to remedy the violation.

11 CFR 9421.5(b)—Recordkeeping. This section requires that the recipient must retain the self-evaluation for a period of three years following its completion.

11 CFR 9421.6—Discrimination complaints. This section provides that any individual who believes that he or she has been subjected to discrimination prohibited by part 9421 or who believes that a denial of his or her services results in discrimination prohibited by part 9421 may file a written complaint of discrimination with the Diversity Officer of EAC. Filing a complaint is strictly voluntary.

11 CFR 9421.6(b)(3), (4), and (5)—Agency support for the complaint process. These sections require the EAC to disseminate information regarding the obligations of recipients, and to notify the complainant and the recipient of their rights under the complaint process, including the right to have a representative at all stages of the complaint process; and of their right to contact the Commission for information and assistance regarding the complaint resolution process.

11 CFR 9421.6(e) and (f)—Complaint investigation and resolution. These sections provide that the Diversity Officer will notify the complainant and respondent of the receipt of a complaint; will examine the complaint for completeness and notify the complainant if additional information is needed; and will notify the complainant of the results of the investigation.

11 CFR 9421.6(g)—Appeals. This section requires a complainant to file a written appeal within 90 days of receipt from EAC of a letter that notifies the complainant of the results of the investigation of his or her complaint. This action is voluntary.

11 CFR 9421.7(b)—Recordkeeping. This section requires that each recipient of EAC's Federal financial assistance is required to keep records in a manner and containing information the Commission determines is necessary, make information available to the Commission upon request, and permit reasonable access by the Commission to the books, records, accounts, and other recipient facilities and sources of information. This information may be used by EAC to respond to Congressional inquiries, to assess the effectiveness of the regulations in 11 CFR part 9421, and as input into compliance reviews.

11 CFR 9421.7(c)—Information on protections against discrimination. This section requires each recipient to make available to participants, beneficiaries, and other interested persons information about the provisions of part 9421 and its applicability to the program for which the recipient receives Federal financial assistance.

11 CFR 9421.7(d)—Mediation. The section requires the Agency to refer complaints to the Federal Conciliation and Mediation Service (FCMS) prior to disposition by the EAC Diversity Officer and requires the complainant and the recipient to participate in at least one meeting with a mediator during the mediation process. If an agreement is reached, the complainant and the recipient must sign a written statement of that agreement which will be prepared by the mediator. Third-party respondents include the complainant and the mediator.

11 CFR 9421.8(a)—Investigation and settlement of complaints. This section requires EAC to investigate complaints that are unresolved after mediation or are reopened because of an alleged violation of a mediation agreement. EAC will establish facts through such methods as discussion with the complainant and recipient and the review of documents in the possession of either party. Settlements shall be in writing and signed by the parties and by an authorized EAC official.

11 CFR 9421.8(c)(2)(iii)—Redisbursement of grant funds to an alternate recipient. This section provides that EAC may redisburse discretionary grant funds withheld or terminated under this part directly to an alternate recipient. EAC shall require the alternate recipient to demonstrate the ability to comply with the regulations and the ability to achieve the goals of the Federal statute authorizing the program or activity.

Needs and Uses: This information collection is required by Title VI of the Civil Rights Act of 1964 (the Act). Title VI, 42 U.S.C. 2000d et seq., was enacted as part of the Civil Rights Act of 1964. It prohibits discrimination on the basis of race, color, and national origin in programs and activities receiving Federal financial assistance. The information collected and maintained by the recipients of EAC's assistance is used internally by EAC for monitoring compliance with the civil rights laws and regulations. This information is made available to EAC officials, officials of other federal enforcement agencies, and to Congress for reporting purposes.

Information Collection Associated With Regulations

Affected Public: EAC grant recipients.

Estimated Number of Respondents: 96.

Total Annual Responses: 96.

Estimated Total Annual Burden Hours: 181 hours.

Recordkeeping Requirement Associated With Regulations

Affected Public: EAC grant recipients.

Estimated Number of Respondents: 84.

Total Annual Responses: 84.

Estimated Total Annual Burden Hours: 448 hours.

Title: Nondiscrimination on the Basis of Age in Programs or Activities Receiving Federal Financial Assistance from the U.S. Election Assistance Commission:

OMB Number: Pending.

Type of Review: Regular submission.

Summary of Information Collections and Recordkeeping Requirements: (Full text of regulation at http://www.eac.gov; and available upon written request).

11 CFR 9422.5—Assurances required. Section 9422.5(a)(1) requires that applicants (individuals and facilities) for EAC's Federal financial assistance must provide a written assurance that they will comply with the requirements of the Age Discrimination Act of 1975 and 45 CFR part 90. This assurance must be signed by the applicant and § 9422.5(a)(2) requires the assurance to be submitted to the Commission upon the award of Federal financial assistance. Similarly, § 9422.5(c) requires every application by a State or State agency to contain or be accompanied by a statement that the program will be conducted in compliance with all requirements of 11 CFR part 9422.

11 CFR 9422.5(a)(2)—Written notice to subrecipients. This section requires that the recipient provide each of its subrecipients with written notice of the subrecipient's obligations under this part whenever a recipient passes Federal financial assistance received from EAC to subrecipients.

11 CFR 9422.5(b)—Self-evaluation. This section provides that EAC may require a recipient employing 15 or more employees to complete a written self-evaluation of any age distinction imposed in its program or activity receiving Federal financial assistance from EAC so that EAC may assess the recipient's compliance with the Act. This self-evaluation will be completed in a manner specified by EAC and will be made available on request to the Commission and the public. The purpose of the self-assessment is to indicate to the recipient any violation of the Act, 45 CFR part 90, or part 9422, and if a violation is identified, the recipient is required to take corrective action to remedy the violation.

11 CFR 9422.5(b)—Recordkeeping. This section requires that the recipient must retain the self-evaluation for a period of three years following its completion.

11 CFR 9422.6—Discrimination complaints. This section provides that any individual who believes that he or she has been subjected to discrimination prohibited by part 9422 or who believes that a denial of his or her services results in discrimination prohibited by part 9422 may file a written complaint of discrimination with the Diversity Officer of EAC. Filing a complaint is strictly voluntary.

11 CFR 9422.6(b)(3), (4), and (5)—Agency support for the complaint process. These sections require EAC to disseminate information regarding the obligations of recipients, and to notify the complainant and the recipient of their rights under the complaint process, including the right to have a representative at all stages of the complaint process, and of their right to contact the Commission for information and assistance regarding the complaint resolution process.

11 CFR 9422.6(e) and (f)—Complaint investigation and resolution. These sections provide that the Diversity Officer will notify the complainant and respondent of the receipt of a complaint; will examine the complaint for completeness and notify the complainant if additional information is needed; and will notify the complainant of the results of the investigation.

11 CFR 9422.6(g)—Appeals. This section requires a complainant to file a written appeal within 90 days of receipt from EAC of a letter that notifies the complainant of the results of the investigation of his or her complaint. This action is voluntary.

11 CFR 9422.7(b)—Recordkeeping. This section requires that each recipient of EAC's Federal financial assistance is required to keep records in a manner and containing information the Commission determines is necessary, make information available to the Commission upon request, and permit reasonable access by the Commission to the books, records, accounts, and other recipient facilities and sources of information. This information may be used by EAC to respond to Congressional inquiries, to assess the effectiveness of the regulations in 11 CFR part 9422, and as input into compliance reviews.

11 CFR 9422.7(c)—Information on protections against discrimination. This section requires each recipient to make available to participants, beneficiaries, and other interested persons information about the provisions of part 9422 and its applicability to the program for which the recipient receives Federal financial assistance. EAC anticipates that each recipient will prepare a fact sheet meeting the requirements of this section and will have it available upon request, including having it available on a website that may be maintained by the recipient.

11 CFR 9422.7(d)—Mediation. The section requires the Agency to refer complaints to the Federal Conciliation and Mediation Service (FCMS) prior to disposition by the EAC Diversity Officer and requires the complainant and the recipient to participate in at least one meeting with a mediator during the mediation process. If an agreement is reached, the complainant and the recipient must sign a written statement of that agreement which will be prepared by the mediator. Third-party respondents include the complainant and the mediator.

11 CFR 9422.8(a)—Investigation and settlement of complaints. This section requires EAC to investigate complaints that are unresolved after mediation or are reopened because of an alleged violation of a mediation agreement. EAC will establish facts through such methods as discussion with the complainant and recipient and the review of documents in the possession of either party. Settlements shall be in writing and signed by the parties and by an authorized EAC official.

11 CFR 9422.8(c)(2)(iii)—Redisbursement of grant funds to an alternate recipient. This section provides that EAC may redisburse discretionary grant funds withheld or terminated under this part directly to an alternate recipient. EAC shall require the alternate recipient to demonstrate the ability to comply with the regulations and the ability to achieve the goals of the Federal statute authorizing the program or activity.

Needs and Uses: This information collection is required by the Age Discrimination Act of 1975, consistent with the government-wide age discrimination regulation contained at 45 CFR part 90. This law and regulation prohibit discrimination on the basis of age in programs and activities receiving federal financial assistance. The information collected and maintained by the recipients of EAC's assistance is used internally by EAC for monitoring compliance with age discrimination laws and regulations. This information is made available to EAC officials, officials of other federal enforcement agencies, and to Congress for reporting purposes.

Information Collection Associated With Regulations

Affected Public: EAC grant recipients.

Estimated Number of Respondents: 96.

Total Annual Responses: 96.

Estimated Total Annual Burden Hours: 181 hours.

Recordkeeping Requirement Associated With Regulations

Affected Public: EAC grant recipients.

Estimated Number of Respondents: 84.

Total Annual Responses: 84.

Estimated Total Annual Burden Hours: 448 hours.

Thomas R. Wilkey,
Executive Director, U.S. Election Assistance Commission.

[FR Doc. E8-30823 Filed 12-24-08; 8:45 am]

BILLING CODE 6820-KF-P